DEPARTMENT OF ENERGY

Federal Energy Regulatory Commission

[Docket No. EG02-107-000, et al.]

MNS Wind Company LLC, et al.; Electric Rate and Corporate Regulation Filings

April 1, 2002.

Take notice that the following filings have been made with the Commission. Any comments should be submitted in accordance with Standard Paragraph E at the end of this notice.

1. MNS Wind Company LLC

[Docket No. EG02-107-000]

Take notice that on March 28, 2002, MNS Wind Company LLC (MNS) filed with the Federal Energy Regulatory Commission (Commission) an Application for Determination of Exempt Wholesale Generator Status pursuant to Part 365 of the Commission's regulations.

MNS is developing a wind-powered eligible facility with a capacity of 85 megawatts, which will be located at the Department of Energy's Nevada Testing Site, approximately 65 miles northwest of Las Vegas in Nevada.

Comment Date: April 22, 2002.

2. NRG Rockford II LLC

[Docket No. EG02-108-000]

Take notice that on March 28, 2002, NRG Rockford II LLC (NRG Rockford II) filed with the Federal Energy Regulatory Commission (Commission) an application for determination of exempt wholesale generator status pursuant to section 32 of the Public Utility Holding Company Act of 1935 (PUHCA) and Part 365 of the Commission's regulations.

As more fully explained in the application, NRG Rockford II states that it is a limited liability company that will be engaged either directly or indirectly and exclusively in the business of owning and operating an electric generation facility located in Rockford, Illinois.

Comment Date: April 22, 2002.

3. ISO New England Inc.;

New England Power Pool

[Docket No. EL00-62-032] and Docket No. ER98-3853-010]

Take notice that on March 28, 2002, the New England Power Pool (NEPOOL) Participants Committee filed a supplement to its March 18, 2002 Report of Compliance, which proposed changes to NEPOOL Market Rule and Procedure No. 5 in order to effect compliance with the Commission's February 15, 2002 order in Docket Nos. EL00-62-032 and ER98-3853-010, New England Power Pool, 98 FERC ¶ 61,173 (2002). NEPOOL's March 28, 2002 supplement informs the Commission that no appeals have been filed concerning the Market Rule changes proposed in the Report of Compliance.

The Participants Committee states that copies of these materials were sent to the New England state governors and regulatory commissions and the Participants in NEPOOL.

Comment Date: April 18, 2002.

4. New York Independent System Operator, Inc.

[Docket No. ER01-2967-004]

Take notice that on March 28, 2002, the New York System Operator, Inc. (NYISO) filed revisions to Attachment S of its Open Access Transmission Tariff, which contains rules to allocate responsibility for the cost of new interconnection facilities, pursuant to the Commission's Order issued on February 27, 2002, in the above-captioned proceeding, and to correct typographical errors in Attachment S. The NYISO has requested an effective date of September 26, 2001, for the compliance filing, the effective date granted in the Commission's Order issued on February 27, 2002, in the above-captioned proceeding.

The NYISO has mailed a copy of this compliance filing to all persons that have filed interconnection applications or executed Service Agreements under the NYISO Open Access Transmission Tariff, to the New York State Public Service Commission, and to the electric utility regulatory agencies in New Jersey and Pennsylvania. The NYISO has also mailed a copy to each person designated on the official service list maintained by the Commission for the above-captioned proceeding.

Comment Date: April 18, 2002.

5. International Transmission Company, DTE Energy Company; International Transmission Company

[Docket Nos. ER01-3000-004, RT01-101-004 and EC01-146-004, and Docket No. EC02-28-000]

Take notice that on March 26, 2002, International Transmission Company and its corporate parent, DTE Energy Company (collectively, the DTE Parties), tendered for filing with the Federal Energy Regulatory Commission (Commission), a supplement to the compliance filing submitted to the Commission by the DTE Parties on January 22, 2002, in Docket Nos. ER01-3000, RT01-101 and EC01-146 (the Compliance Filing). See International Transmission Co., et al., 97 FERC ¶ 61,328 (2001). Specifically, the tendered filing revises and supplements Exhibit 3 of the Compliance Filing—Updated List of JOATT Transmission Service Agreements and Customer Index—in order to: (I) address certain concerns raised by intervenors; and (ii) include certain service agreements under the Joint Open Access Transmission Tariff between International Transmission and Michigan Electric Transmission Company that were filed with the Commission by International Transmission subsequent to January 22, 2002—the date of the Compliance Filing. A courtesy copy of this filing is being submitted to the Commission in Docket No. EC02-28.

Copies of the filing were served upon all parties on the official service list compiled by the Secretary of the Federal Energy Regulatory Commission in this proceeding.

Comment Date: April 16, 2002.

6. ConAgra Trade Group, Inc.

[Docket No. ER02-672-001]

Take notice that on March 28, 2002, ConAgra Trade Group, Inc. filed its lst Revised Rate Schedule FERC No. 1.

Comment Date: April 18, 2002.

7. Crete Energy Venture, LLC

[Docket No. ER02-963-001]

Take notice that on March 28, 2002, Crete Energy Venture, LLC submitted for filing First Substitute Sheet Nos. 1 through 4 to its FERC Electric Tariff, Original Volume No. 1, in compliance with the delegated letter order issued in the above-captioned docket on March 15, 2002.

Comment Date: April 18, 2002.

8. GNE, LLC

[Docket No. ER02-1010-000]

Take notice that on March 27, 2002, GNE, LLC filed the substitute long-term Power Purchase and Sale Agreement (Agreement) between Maclaren Energy Inc. (Maclaren) and GNE, LLC (GNE). The Agreement, submitted as substitution of the previous filing made on February 13, 2002, in the above referenced docket, contains corrections made to page 4 of the Agreement and the original signatures of the parties involved.

Comment Date: April 17, 2002.

9. NRG Ilion LP

[Docket No. ER02-1395-000]

Take notice that on March 26, 2002, NRG Ilion LP (NRG Ilion) filed with the Federal Energy Regulatory Commission (Commission) A Notice of Succession pursuant to Section 35.16 of the Commission's regulations, 18 CFR 35.16. As A result of the name change, NRG Ilion is succeeding to the FERC Electric Tariff of Indeck-Ilion Limited Partnership, effective January 10, 2002. The tariff sheets filed by Indeck-Ilion Limited Partnership in Docket No. ER01-2431-000 are cancelled.

Comment Date: April 16, 2002.

10. NRG Rockford LLC

[Docket No. ER02-1396-000]

Take notice that on March 26, 2002, NRG Rockford LLC (NRG Rockford) filed with the Federal Energy Regulatory Commission (Commission) A Notice of Succession pursuant to Section 35.16 of the Commission's regulations, 18 CFR 35.16. As A result of the name change, NRG Rockford is succeeding to the FERC Electric Tariff of Indeck-Rockford, L.L.C., effective January 10, 2002. The tariff sheets filed by Indeck-Rockford, L.L.C. in Docket No. ER00-2069-000 are cancelled.

Comment Date: April 16, 2002.

Standard Paragraph

E. Any person desiring to be heard or to protest such filing should file a motion to intervene or protest with the Federal Energy Regulatory Commission, 888 First Street, NE., Washington, DC 20426, in accordance with rules 211 and 214 of the Commission's rules of practice and procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Magalie R. Salas,
Secretary.

[FR Doc. 02-8750 Filed 4-10-02; 8:45 am]

BILLING CODE 6717-01-P